DEPARTMENT OF COMMERCE

Foreign-Trade Zones Board

(Docket 19-2007)

Foreign-Trade Zone 197 -- Doña Ana County, New Mexico, Application for Expansion

An application has been submitted to the Foreign-Trade Zones (FTZ) Board (the Board) by the Board of County Commissioners of Doña Ana County, New Mexico, grantee of FTZ 197, requesting authority to expand its zone to include additional sites in Santa Teresa within the Santa Teresa Customs and Border Protection port of entry. The application was submitted pursuant to the provisions of the Foreign-Trade Zones Act, as amended (19 U.S.C. 81a-81u), and the regulations of the Board (15 CFR part 400). It was formally filed on May 25, 2007.

FTZ 197 was approved on November 26, 1993 (Board Order 665, 58 FR 64546, 12/8/03). The general-purpose zone currently consists of two sites (895 acres) in Doña Ana County: Site 1 (689 acres, 2 parcels) -- Parcel 1 (481 acres) located within the Santa Teresa Airport Industrial Park and Parcel 2 (208 acres) located within the Santa Teresa Business Center adjacent to the Doña Ana County Airport at Santa Teresa; and, Site 2 (206 acres) -- located within the 1,820-acre West Mesa Industrial Park, adjacent to the Las Cruces International Airport.

The applicant is now requesting authority to expand Site 1 to include an additional parcel and to expand the zone to include an additional site in Santa Teresa: Expand Site 1 to include an additional parcel at the 208-acre Santa Teresa Logistics Park located at 4800 Avenida Creel; and, Proposed Site 3 (304 acres) -- Santa Teresa Bi-National Park located at 401 Avenida Ascension. The sites are owned by Verde Realty Operating Partnership, LP. The sites will provide warehousing and distribution services to area businesses. No specific manufacturing authority is being requested at this time. Such requests would be made to the Board on a case-by-case basis.

In accordance with the Board's regulations, a member of the FTZ Staff has been designated examiner to investigate the application and report to the Board.

Public comment is invited from interested parties. Submissions (original and 3 copies) shall be addressed to the Board's Executive Secretary at the address below. The closing period for their receipt is August 6, 2007. Rebuttal comments in response to material submitted during the foregoing period may be submitted during the subsequent 15-day period to August 20, 2007.

A copy of the application and accompanying exhibits will be available for public inspection at each of the following locations: Community Development Department at the Doña Ana County Government Center, 845 N. Motel Boulevard, Las Cruces, NM 88007; and, Office of the Executive Secretary, Foreign-Trade Zones Board, Room 2111, U.S. Department of Commerce, 1401 Constitution Avenue, NW, Washington, DC 20230.

For further information, contact Camille Evans at Camille_Evans@ita.doc.gov or (202) 482-2350.

Dated: May 29, 2007.
Andrew McGilvray,
Executive Secretary.

[FR Doc. E7-10784 Filed 6-4-07; 8:45 am]

BILLING CODE 3510-DS-S